INTERNATIONAL TRADE COMMISSION

[Investigation Nos. 701-TA-673-677 and 731-TA-1580-1583 (Preliminary)]

Steel Nails From India, Oman, Sri Lanka, Thailand, and Turkey

Determinations

On the basis of the record ¹ developed in the subject investigations, the United States International Trade Commission (“Commission”) determines, pursuant to the Tariff Act of 1930 (“the Act”), that there is a reasonable indication that an industry in the United States is materially injured by reason of imports of steel nails from India, Sri Lanka, Thailand, and Turkey, provided for in subheadings 7317.00.55, 7317.00.65, and 7317.00.75 of the Harmonized Tariff Schedule of the United States, that are alleged to be sold in the United States at less than fair value (“LTFV”), and imports of the subject merchandise from India, Oman, Thailand, and Turkey that are alleged to be subsidized by the governments of India, Oman, Thailand, and Turkey. The Commission further determines that an industry in the United States is threatened with material injury by reason of imports of steel nails from Sri Lanka that are alleged to be subsidized by the government of Sri Lanka.²

¹ The record is defined in § 207.2(f) of the Commission's Rules of Practice and Procedure (19 CFR 207.2(f)).

² 87 FR 3965 and 87 FR 3970 (January 26, 2022).

Commencement of Final Phase Investigations

Pursuant to section 207.18 of the Commission's rules, the Commission also gives notice of the commencement of the final phase of its investigations. The Commission will issue a final phase notice of scheduling, which will be published in the Federal Register as provided in § 207.21 of the Commission's rules, upon notice from the U.S. Department of Commerce (“Commerce”) of affirmative preliminary determinations in the investigations under §§ 703(b) or 733(b) of the Act, or, if the preliminary determinations are negative, upon notice of affirmative final determinations in those investigations under §§ 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On December 30, 2021, Mid Continent Nail Corporation, Popular Bluff, Missouri filed petitions with the Commission and Commerce, alleging that an industry in the United States is materially injured or threatened with material injury by reason of subsidized imports of steel nails from India, Oman, Sri Lanka, Thailand, and Turkey and LTFV imports of steel nails from India, Sri Lanka, Thailand, and Turkey. Accordingly, effective December 30, 2021, the Commission instituted countervailing duty investigation Nos. 701-TA-673-677 and antidumping duty investigation Nos. 731-TA-1580-1583 (Preliminary).

Notice of the institution of the Commission's investigations and of a public conference to be held in connection therewith was given by posting copies of the notice in the Office of the Secretary, U.S. International Trade Commission, Washington, DC, and by publishing the notice in the Federal Register of January 7, 2022 (87 FR 993). The Commission conducted its conference on January 20, 2022. All persons who requested the opportunity were permitted to participate.

The Commission made these determinations pursuant to §§ 703(a) and 733(a) of the Act (19 U.S.C. 1671b(a) and 1673b(a)). It completed and filed its determinations in these investigations on February 14, 2022. The views of the Commission are contained in USITC Publication 5283 (February 20), entitled Steel Nails from India, Oman, Sri Lanka, Thailand, and Turkey: Investigation Nos. 701-TA-673-677 and 731-TA-1580-1583 (Preliminary).

By order of the Commission.
Issued: February 15, 2022.
Lisa Barton,
Secretary to the Commission.

[FR Doc. 2022-03558 Filed 2-17-22; 8:45 am]

BILLING CODE 7020-02-P